SMALL BUSINESS ADMINISTRATION

Small Business Size Standards: Waiver of the Nonmanufacturer Rule

AGENCY: U.S. Small Business Administration.

ACTION: Notice of denial to waive the Nonmanufacturer Rule for Personal Computers.

SUMMARY: The U.S. Small Business Administration (SBA) is denying a request for a waiver of the Nonmanufacturer Rule for Personal Computers based on our discovery of small business manufacturers for this class of product. Denying this waiver will require recipients of contracts set aside for small businesses, service-disabled veteran-owned small businesses, or SBA's 8(a) Business Development Program to provide the products of small business manufacturers or processors on such contracts.

DATE: This notice of denial is effective November 28, 2006.

FOR FURTHER INFORMATI0N CONTACT: Edith Butler, Program Analyst, by telephone at (202) 619-0422; by fax at (202) 481-1788; or by e-mail at edith.butler@sba.gov.

SUPPLEMENTARY INFORMATION: Section 8(a)(17) of the Small Business Act (Act), 15 U.S.C. 637(a)(17), requires that recipients of Federal contracts set aside for small businesses, service-disabled veteran-owned small businesses, or SBA's 8(a) Business Development Program provide the product of a small business manufacturer or processor, if the recipient is other than the actual manufacturer or processor of the product. This requirement is commonly referred to as the Nonmanufacturer Rule.

The SBA regulations imposing this requirement are found at 13 CFR 121.406(b). Section 8(a)(17)(b)(iv) of the Act authorizes SBA to waive the Nonmanufacturer Rule for any “class of products” for which there are no small business manufacturers or processors available to participate in the Federal market.

As implemented in SBA's regulations at 13 CFR 121.1202(c), in order to be considered available to participate in the Federal market for a class of products, a small business manufacturer must have submitted a proposal for a contract solicitation or received a contract from the Federal Government within the last 24 months. The SBA defines “class of products” based on a six digit coding system. The coding system is the Office of Management and Budget North American Industry Classification System (NAICS).

The SBA received a request on September 21, 2006, to waive the Nonmanufacturer Rule for Personal Computers. In response, on October 12, 2006, SBA published in the Federal Register a notice of intent to waive the Nonmanufacturer Rule for Personal Computers. SBA explained in the notice that it was soliciting comments and sources of small business manufacturers of this class of product. In response to that October 12, 2006 notice, SBA received comments from small business manufacturers indicating that they have furnished this product to the Federal Government.

Accordingly, based on the available information, SBA has determined that there are small business manufacturers of this class of product, and, is therefore denying the class waiver of the Nonmanufacturer Rule for Personal Computers, NAICS code 334111.

Dated: November 6, 2006.
Arthur E. Collins,
Acting Associate Administrator for Government Contracting.

[FR Doc. E6-19056 Filed 11-9-06; 8:45 am]

BILLING CODE 8025-01-P